DEPARTMENT OF EDUCATION

National Assessment Governing Board

National Assessment Governing Board; Meeting

AGENCY: National Assessment Governing Board, Department of Education.

ACTION: Notice of open and closed hybrid meetings.

SUMMARY: This notice sets forth the agenda for the National Assessment Governing Board (hereafter referred to as Governing Board) meeting scheduled for March 3-4, 2022. This notice provides information about the meeting to members of the public who may be interested in attending and/or providing written comments related to the work of the Governing Board. Notice of this meeting is required under the Federal Advisory Committee Act (FACA). This notice is being published less than 15 days prior to the meeting due to an unforeseeable delay in finalizing the meeting agenda. The Governing Board was awaiting a decision on the release of a report by the National Academies which was scheduled to be discussed by the Governing Board at this quarterly meeting. However, release of the report is now delayed, and this agenda topic is now postponed to a future meeting of the Governing Board.

ADDRESSES: Hybrid meetings; virtual meeting attendance for open sessions of the Board meeting will be available to members of the public who pre-register in accordance with the instructions in the “Supplementary Information” section of this notice. In-person attendance is limited to Governing Board members and staff. The meeting for Governing Board members and staff will be held at Convene DC, 600 14th Street NW, Washington, DC 20005.

FOR FURTHER INFORMATION CONTACT: Munira Mwalimu, Executive Officer/Designated Federal Official for the Governing Board, 800 North Capitol Street NW, Suite 825, Washington, DC 20002, telephone: (202) 357-6906, fax: (202) 357-6945, email: Munira.Mwalimu@ed.gov.

SUPPLEMENTARY INFORMATION: Statutory Authority and Function: The Governing Board is established under the National Assessment of Educational Progress Authorization Act, Title III of Public Law 107-279. Information on the Governing Board and its work can be found at www.nagb.gov.

The Governing Board formulates policy for the National Assessment of Educational Progress (NAEP) administered by the National Center for Education Statistics (NCES). The Governing Board's responsibilities include: (1) Selecting subject areas to be assessed; (2) developing assessment frameworks and specifications; (3) developing appropriate student achievement levels for each grade and subject tested; (4) developing standards and procedures for interstate and national comparisons; (5) improving the form and use of NAEP; (6) developing guidelines for reporting and disseminating results; and (7) releasing initial NAEP results to the public.

Standing Committee Meetings

The Governing Board's standing committees will meet to conduct regularly scheduled work planned for this Quarterly Board Meeting and any items undertaken by committees for consideration by the full Governing Board. (Please see committee meeting minutes for previous meetings, available at https://www.nagb.gov/governing-board/quarterly-board-meetings.html). Committee meeting agendas will be posted on the Governing Board's website www.nagb.gov five business days prior to the meetings. Online registration for virtual access to the open sessions of the Governing Board and committee meetings will also be posted at www.nagb.gov five working days prior to each meeting.

Committee Meetings

Wednesday, February 23, 2022

Reporting and Dissemination Committee (R&D)

1:00 p.m.-2:30 p.m. (Open Session)

Monday, February 28, 2022

Assessment Development Committee (ADC)

2:30 p.m.-4:00 p.m. (Closed Session)

4:00 p.m.-4:30 p.m. (Open Session)

Monday, February 28, 2022

Nominations Committee

5:30 p.m.-6:30 p.m. (Closed Session)

Thursday, March 3, 2022

Executive Committee Meeting

10:00 a.m.-10:30 a.m.: (Open Session)

10:30 a.m.-11:30 a.m.: (Closed Session)

Tuesday, March 8, 2022

Joint ADC and R&D Meeting

2:30 p.m.-4:30 p.m. (Open Session)

Tuesday, March 15, 2022

Committee on Standards, Design and Methodology

2:00 p.m.-2:40 p.m. (Closed Session)

2:45 p.m.-4:00 p.m. (Open Session)

Quarterly Governing Board Meeting

The plenary sessions of the March 3-4, 2022 quarterly meeting of the Governing Board will be held on the following dates and times:

Thursday, March 3, 2022: Open Meeting: 11:45 p.m.-3:15 p.m.; Closed Meeting: 3:25 p.m.-3:50 p.m.; Open Meeting: 3:55 p.m.-4:00 p.m.

Friday, March 4, 2022: Closed Meeting: 9:30 a.m.-11:00 a.m.; Open Meeting: 12:30 p.m.-3:30 p.m.

March 3, 2022 Meeting

On Thursday, March 3, 2022, the Governing Board will meet in open session from 11:45 a.m. to 3:15 p.m. From 11:45 a.m. to 12:00 p.m. Chair Beverly Perdue will welcome members, review, and approve the March 3-4, 2022 quarterly Governing Board meeting agenda and minutes from the November 18-19, 2021 quarterly Governing Board meeting.

Thereafter, from 12:00 p.m. to 12:30 p.m. Lesley Muldoon, Executive Director of the Governing Board, will update members on ongoing work. From 12:30 p.m. to 2:00 p.m., Peggy Carr, Commissioner, National Center for Education Statistics, will provide an update on the NAEP 2022 Administration. From 2:15 p.m. to 2:45 p.m. committee chairs will provide an update on the standing committees' work. From 2:45 to 3:15 p.m. the Governing Board will discuss and take action on the Governing Board Policy on Developing NAEP Assessment Frameworks.

Following a 15 minute break, the Governing Board will meet in closed session from 3:25 p.m. to 3:50 p.m. to receive a briefing from the Nominations Committee on its recommendations for candidates to fill board vacancies. The Governing Board will review the recommendations for the final slate of candidates for submission to the Secretary of Education for appointments that begin October 1, 2022. These discussions pertain solely to internal personnel rules and practices of an agency and information of a personal nature where disclosure would constitute a clearly unwarranted invasion of personal privacy. As such, the discussions are protected by exemptions 2 and 6 of § 552b(c) of Title 5 of the United States Code. The Governing Board will take a short break to transition to the open session from 3:55 p.m. to 4:00 p.m. in order to take action on the 2022 Slate of Governing Board Nominees.

The March 3, 2022 session of the Board meeting will adjourn at 4:00 p.m.

March 4, 2022 Meeting

On Friday, March 4, 2022, the Governing Board meeting will convene in closed session from 9:30 a.m. to 11:00 a.m. to receive a briefing from Lesley Muldoon and Peggy Carr, Commissioner of NCES on the NAEP Budget and Assessment Schedule. The budget briefing and Governing Board discussions may affect current and future NAEP contracts and must be kept confidential to maintain the integrity of the federal acquisition process. Public disclosure of this confidential information would impede implementation of the NAEP assessment program if conducted in open session. Such matters are protected by exemption 9(B) of § 552b(c) of Title 5 of the United States Code.

Following a short break, the Governing Board will convene in open session from 11:15 a.m. to 12:15 p.m. to hear a panel discussion on possibilities and priorities for the NAEP Science Assessment Framework. From 12:30 p.m. to 2:00 p.m. members will meet in small groups to discuss the NAEP Science Framework priorities. Members will reconvene in the plenary session from 2:15 p.m. to 3:00 p.m. to provide group debriefs on the discussions.

Governing Board members will engage in open discussion from 3:00 p.m. to 3:30 p.m. The March 4 session of the Governing Board meeting will adjourn at 3:30 p.m.

The Quarterly Board meeting and committee meeting agendas, together with meeting materials, will be posted on the Governing Board's website at www.nagb.gov no later than five working days prior to each meeting.

Virtual attendance for all open sessions will be accessible to members of the public via online registration only at www.nagb.gov five business days prior to each meeting.

Access to Records of the Meeting: Pursuant to FACA requirements, the public may also inspect the meeting materials at www.nagb.gov five business days prior to each meeting. The official verbatim transcripts of the public meeting sessions will be available for public inspection no later than 30 calendar days following each meeting.

Reasonable Accommodations: The meeting is accessible to individuals with disabilities. If you will need an auxiliary aid or service to participate in the meeting (e.g., interpreting service, assistive listening device, or materials in an alternate format), notify the contact person listed in this notice no later than ten working days prior to each meeting.

Written Comment: Written comments related to the work of the Governing Board may be submitted electronically or in hard copy to the attention of the Executive Officer/Designated Federal Official (see contact information noted above).

Public Participation: Members of the public may virtually attend all open sessions of the standing committees and full Governing Board meetings via advance registration. A link to the registration page will be posted on www.nagb.gov five business days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III—National Assessment of Educational Progress § 301.

Lesley Muldoon,
Executive Director, National Assessment Governing Board (NAGB), U.S. Department of Education.

[FR Doc. 2022-03774 Filed 2-22-22; 8:45 am]

BILLING CODE 4000-01-P